Title 3—

The President

Executive Order 13758 of January 12, 2017

Amending Executive Order 11016 To Update Eligibility Criteria for Award of the Purple Heart

By the authority vested in me as President and as Commander in Chief of the armed forces by the Constitution and the laws of the United States of America, Executive Order 11016 of April 25, 1962, as amended, is further amended as follows:

Section 1. Paragraph 1 is amended to read as follows:

“1. The Secretary of a military department, or the Secretary of Homeland Security with regard to the Coast Guard when not operating as a service in the Navy, shall, in the name of the President of the United States, award the Purple Heart, with suitable ribbons and appurtenances, to any member or former member of the armed forces under the jurisdiction of that department who, while serving as a member of the armed forces, has been, or may hereafter be, wounded:

(a) in any action against an enemy of the United States;

(b) in any action with an opposing armed force of a foreign country in which the armed forces of the United States are or have been engaged;

(c) while serving with friendly foreign forces engaged in an armed conflict against an opposing armed force in which the United States is not a belligerent party;

(d) as the result of an act of any such enemy or opposing armed force;

(e) as the result of an act of any hostile foreign force;

(f) while being taken captive or while being held as a prisoner of war, and for purposes of this paragraph a person is considered a prisoner of war if the person is eligible for the Prisoner of War Medal pursuant to section 1128 of title 10, United States Code;

(g) after March 28, 1973, as a result of an international terrorist attack against the United States or a foreign nation friendly to the United States, recognized as such an attack for the purposes of this order by the Secretary of the department concerned, or jointly by the Secretaries of the departments concerned if persons from more than one department are wounded in the attack;

(h) after March 28, 1973, as a result of military operations, while serving outside the territory of the United States as part of a peacekeeping force;

(i) after September 10, 2001, in an attack that was motivated or inspired by a foreign terrorist organization, which the Secretary of the department concerned shall treat in the same manner as an international terrorist attack, provided the attack specifically targeted the member due to his or her military service as provided in section 1129a of title 10, United States Code; or

(j) after December 6, 1941, by friendly weapon fire while directly engaged in armed conflict, other than as the result of an act of an enemy of the United States, an opposing armed force, or hostile foreign force.”.

Sec. 2. Paragraph 2 is amended to read as follows:

“2. The Secretary of a military department, or the Secretary of Homeland Security with regard to the Coast Guard when not operating as a service in the Navy, shall, in the name of the President of the United States, award the Purple Heart, with suitable ribbons and appurtenances, posthumously, to any member of the armed forces under the jurisdiction of that department covered by, and under the circumstances described in:

(a) paragraphs 1(a)-(f) who, after April 5, 1917;

(b) paragraphs 1(g)-(h) who, after March 28, 1973;

(c) paragraph 1(i) who, after September 10, 2001; or

(d) paragraph 1(j) who, after December 6, 1941, has been, or may hereafter be, killed, or who has died or may hereafter die after being wounded.”.

Sec. 3. Paragraph 3 is amended by inserting “been of such severity that it” after “must have”.

Sec. 4. Paragraphs 4, 5, 6, 7, and 8 are redesignated as paragraphs 5, 6, 7, 8, and 9, respectively.

Sec. 5. The following new paragraph 4 is inserted after paragraph 3:

“4. The Purple Heart is not authorized for a wound or death that results from the willful misconduct of the member.”.

Sec. 6. Paragraph 6, as redesignated, is amended by striking “paragraph 4” and inserting in lieu thereof “paragraph 5”.

Sec. 7. This order is not intended to, and does not, create any right or benefit, substantive or procedural, enforceable at law or in equity by any party against the United States, its departments, agencies, or entities, its officers, employees, or agents, or any other person.

THE WHITE HOUSE,

January 12, 2017.

[FR Doc. 2017-01164

Filed 1-13-17; 11:15 am]

Billing code 3295-F7-P